DEPARTMENT OF TRANSPORTATION

Federal Aviation Administration

Notice of Intent To Rule on Request To Release Airport Land at Shafter Airport-Minter Field, Shafter, CA

AGENCY: Federal Aviation Administration, Department of Transportation.

ACTION: Notice of Request to Release Airport Land.

SUMMARY: The Federal Aviation Administration (FAA) proposes to rule and invites public comment on the release of approximately 34.98 acres of airport property at Shafter Airport-Minter Field, Shafter, California, from all restrictions of the surplus property agreement since the land is not needed for airport purposes. Sale of the property will generate revenue for airport development projects. Reuse of the land for commercial/light industrial purposes represents a compatible land use.

DATES: Comments must be received on or before July 30, 2004.

ADDRESSES: Comments on this application may be mailed or delivered in triplicate to the FAA at the following address: Federal Aviation Administration, Airports Division, Federal Register Comment, 15000 Aviation Blvd., Lawndale, CA 90261. In addition, one copy of the comment submitted to the FAA must be mailed or delivered to Herman Ruddell, General Manager, Minter Field Airport District, Shafter Airport, 201 Aviation Street, Shafter, CA 93263.

FOR FURTHER INFORMATION CONTACT: Tony Garcia, Airports Compliance Specialist, Federal Aviation Administration, Airports Division, 15000 Aviation Blvd., Lawndale, California 90261, telephone (310) 725-3634 and FAX (310) 725-6849. The request to release airport property may be reviewed in person by appointment at this same location or at Shafter Airport-Minter Field, Shafter, California.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport's interest in surplus property.

The following is a brief overview of the request:

The Minter Field Airport District requested a release from surplus property agreement obligations for approximately 34.98 acres of airport land at Shafter Airport-Minter Field, Shafter, California, originally acquired from the United States for airport purposes. The land is part of a larger parcel located east of the Friant Kern Canal in the southwest corner of the airport. The property is currently unused, undeveloped, and without structural improvements. It is located in an area that was once farmland but is now zoned for industrial use. The parcel is a considerable distance from the airfield. A water treatment plant lies between the parcel and the rest of the airport. The airport sponsor wishes to sell the land because it cannot be used for airport purposes. The property's redevelopment for non-aeronautical purposes will comply with local zoning and compatible land-use requirements. The parcel will be sold at fair market value based on the land's appraised value. The sale will provide the airport with needed revenue for airport improvement and development projects. The net proceeds of the sale will be used entirely for airport purposes, thereby providing a tangible and direct benefit to the airport and civil aviation.

Issued in Hawthorne, California, on June 3, 2004.
John Lott,
Manager, Safety and Standards Branch, Airports Division, Western-Pacific Region.

[FR Doc. 04-14872 Filed 6-29-04; 8:45 am]

BILLING CODE 4910-13-M